DEPARTMENT OF EDUCATION

National Educational Research Policy and Priorities Board; Meeting

AGENCY: National Educational Research Policy and Priorities Board; Education.

ACTION: Notice of meeting.

SUMMARY: This notice sets forth the schedule and proposed agenda for a forthcoming meeting of the National Educational Research Policy and Priorities Board. Notice of this meeting is required under Section 10(a)(2) of the Federal Advisory Committee Act. This document is intended to notify the general public of their opportunity to attend the meeting. Individuals who will need accommodations for a disability in order to attend the meeting (i.e., interpreting services, assistive listening devices, materials in alternative format) should notify Mary Grace Lucier at (202) 219-2253 by August 27. We will attempt to meet requests after this date, but cannot guarantee availability of the requested accommodation. The meeting site is accessible to individuals with disabilities.

Date: September 6, 2002.

Time: 12:30 (approximately) to 4 p.m.

Location: Room 100, 80 F St., NW., Washington, DC, 20208-7564.

FOR FURTHER INFORMATION CONTACT: Mary Grace Lucier, Designated Federal Official, National Educational Research Policy and Priorities Board, Washington, DC 20208-7564. Tel: (202 219-2353; fax: (202) 219-1528; e-mail: Mary.Grace.Lucier@ed.gov, or nerppb@ed.gov. The main telephone number for the Board is (202) 208-0692.

SUPPLEMENTARY INFORMATION: The National Educational Research Policy and Priorities Board is authorized by Section 921 of the Educational Research, Development Dissemination and Improvement Act of 1994. The Board works collaboratively with the Assistant Secretary for the Office of Educational Research and Improvement (OERI) to forge a national consensus with respect to along-term agenda for educational research, development, and dissemination, and to provide advice and assistance to the Assistant Secretary in administering the duties of the Office. The Board will conduct outstanding business, hear a report from the Assistant Secretary, and review ongoing initiatives in OERI. A find agenda will be available from the Board Office on August 27, and will be posted on the Board's web site, http://www.ed.gov/offices/OERI/NERPPB/.

Records are keep of all Board proceedings and are available for public inspection at the office of the National Research Policy and Priorities Board, Suite 100, 80 F ST., NW., Washington, DC 20208-7564.

Dated: August 12, 2002.
Rafael Valdivieso,
Executive Director.

[FR Doc. 02-20929 Filed 8-16-02; 8:45 am]

BILLING CODE 4000-01-M